DEPARTMENT OF HEALTH AND HUMAN SERVICES

Centers for Medicare & Medicaid Services

[Document Identifier CMS-10718]

Agency Information Collection Activities: Proposed Collection; Comment Request; Correction

AGENCY: Centers for Medicare & Medicaid Services (CMS), HHS.

ACTION: Correction of notice.

SUMMARY: This document corrects the information provided for [Document Identifier: CMS-10718] titled “Model Medicare Advantage and Medicare Prescription Drug Plan Individual Enrollment Request Form.”

FOR FURTHER INFORMATION CONTACT: William N. Parham, III, (410) 786-4669.

SUPPLEMENTARY INFORMATION:

I. Background

In the November 18, 2019, issue of the Federal Register (84 FR 63655), we published a Paperwork Reduction Act notice requesting a 60-day public comment period for the information collection request identified under CMS-10718, OMB control number 0938-New, and titled “Model Medicare Advantage and Medicare Prescription Drug Plan Individual Enrollment Request Form.”

II. Explanation of Error

In the November 18, 2019, notice, the information provided in the first column of the first paragraph, on page 63657, was published with incorrect information in the “Total Annual Hours” section. This notice corrects the language found in the “Total Annual Hours” section in the first column of the first paragraph, on page 63657 the November 18th notice. All of the other information contained in the November 18, 2019, notice is correct. The related public comment period remains in effect and ends January 17, 2020.

III. Correction of Error

In FR Doc. 2019-24930 of November 18, 2019 (84 FR 63655), page 63657, the language in the first column, first paragraph of the notice that begins with “Total Annual Hours: 10,324,481” and ends with “(For policy questions regarding this collection contact Deme Umo at (410) 786-8854.),” is corrected to read as follows:

Total Annual Hours: 7,861,354. (For policy questions regarding this collection contact Deme Umo at (410) 786-8854.)

Dated: November 18, 2019.
William N. Parham, III,
Director, Paperwork Reduction Staff, Office of Strategic Operations and Regulatory Affairs.

[FR Doc. 2019-25283 Filed 11-20-19; 8:45 am]

BILLING CODE 4120-01-P